DEPARTMENT OF HOMELAND SECURITY

Coast Guard

[Docket No. USCG-2020-0187]

Proposed Distribution of Scheduled Navigation Safety Messages (Broadcast Notice to Mariners) by Mobile and Internet Methods

AGENCY: Coast Guard, Homeland Security (DHS).

ACTION: Notice of availability and request for comments.

SUMMARY: In 2020, the Coast Guard began making broadcast notices to mariners containing locally relevant information accessible by mobile devices and the internet. Previously, the only way to obtain this information in a timely fashion was to tune in to local Coast Guard broadcasts that take place on very high frequency (VHF) marine radio two or more times per day. The new methods of information delivery have included Rich Site Summary, also known as Really Simple Syndication (RSS) feeds, email, and other means such as map-based filtering. The Coast Guard has received public feedback indicating that mariners prefer the real-time accessibility of mobile and internet access to this information over scheduled VHF broadcasts, because access is more timely, reliable, convenient, and customizable. Also, some mariners have reported that VHF broadcast notice to mariners are bothersome, because they are perceived as unnecessary radio clutter that can be distracting when maneuvering along a dock, in ports or other areas of congested traffic. The Coast Guard is considering phasing out the process of distributing this information by routine VHF radio broadcasts, and is seeking public comment.

DATES: Comments must be submitted to the online docket via https://www.regulations.gov on or before August 16, 2021.

ADDRESSES: You may submit comments identified by docket number USCG-2020-0187 using the Federal e-Rulemaking Portal at http://www.regulations.gov. See the “Public Participation and Request for Comments” portion of the supplementary information section for further instructions on submitting comments.

FOR FURTHER INFORMATION CONTACT: For information about this document, please call or email Eugene Diotalevi, Coast Guard Navigation Center; telephone: 703-313-5800; email: Eugene.j.diotalevi@uscg.mil.

SUPPLEMENTARY INFORMATION:

Public Participation and Request for Comments

We encourage you to submit comments (or related material) on the Coast Guard's proposal to distribute and make available BNM information through mobile and web-based methods. We will consider all submissions received before the comment period closes. If you submit a comment, please include the docket number for this notice, indicate the specific section of this document to which each comment applies, and provide a reason for each suggestion or recommendation.

We encourage you to submit comments through the Federal eRulemaking Portal at http://www.regulations.gov. If your material cannot be submitted using the portal, contact the person in the FOR FURTHER INFORMATION CONTACT section of this document for alternate instructions. Documents mentioned in this notice, and all public comments, are in our online docket at http://www.regulations.gov and can be viewed by following that website's instructions. Additionally, if you go to the online docket and sign up for email alerts, you will be notified when comments are posted.

We accept anonymous comments. All comments received will be posted without change to http://www.regulations.gov and will include any personal information you have provided. For more about privacy and submissions in response to this document, see DHS's eRulemaking System of Records notice (85 FR 14226, March 11, 2020).

Abbreviations

BNM Broadcast Notice to Mariners

VHF Very High Frequency

RSS Rich Site Summary or Really Simple Syndication

Discussion

In a previous notice (85 FR 32408, May 29, 2020), the Coast Guard provided an overview of the existing practice of distributing broadcast notices to mariners through routing broadcasts on VHF marine radio, and described new methods of digital access to this information that was being made available through web and mobile means. The Coast Guard received two comments on the May 29, 2020 this notice; both viewed the Coast Guard's initiative favorably. One comment, from a recognized maritime industry association, expressed support for the Coast Guard's plans to expand options for access to this information, indicating, “its enactment will have a positive impact on reaching a greater number of mariners, expanded convenience, and improved timeliness of distribution.”

Since publication of the May 29, 2020 notice, the Coast Guard has expanded the improved access beyond the Fifth Coast Guard District, where the system was being tested. The Coast Guard has also been actively soliciting feedback about the program through meetings with maritime industry groups and local harbor safety committees and through public surveys. Information gathered indicates that the maritime public finds the new mobile and web access valuable and worthwhile. Mariners also told the Coast Guard that they did not find the existing routine VHF broadcasts to be very valuable; rather, the broadcasts, which are typically announced on VHF channel 16 and then switched to channel 22, were frequently noted as bothersome, because they tended to crowd out more valuable marine radio traffic on both VHF channels, creating “radio clutter.”

The Coast Guard is now considering phasing out routine VHF broadcasts in locations where digital mobile and web access is made available, and is seeking public comment. Before broadcasts in any particular location are phased out, mariners can anticipate that the Coast Guard will thoroughly announce and remind mariners about how to access the information by the new web and mobile methods. Only routine broadcasts are being considered for phase out; the Coast Guard will continue to choose to broadcast urgent and safety broadcasts on VHF as necessary.

This notice is issued under the authority of 14 U.S.C. 504(a)(16) and 5 U.S.C. 552(a).

Dated: July 6, 2021.
Michael D. Emerson,
Director, Marine Transportation Systems.

[FR Doc. 2021-15059 Filed 7-14-21; 8:45 am]

BILLING CODE 9110-04-P